DEPARTMENT OF ENERGY

Federal Energy Regulatory Commission

[Docket No. RP01-255-001]

Cove Point LNG Limited Partnership; Notice of Compliance Filing

May 15, 2001.

Take notice that on April 19, 2001, Cove Point LNG Limited Partnership (Cove Point) tendered for filing additional workpapers to support its March 1, 2001 filing in this docket. Cove Point submitted its March 1, 2001 filing pursuant to Section 1.37 of the General Terms and Conditions of its FERC Gas Tariff to revise the retainage percentages for its peaking services and transportation services, to be effective April 1, 2001. Cove Point asserts that the purpose of this filing is to comply with the Commission's March 28 order, 94 FERC ¶ 61,358 (2001).

Cove Point further states that copies of this filing is being served to its affected customers and interested State Commissions.

Any person desiring to protest said filing should file a protest with the Federal Energy Regulatory Commission, 888 First Street, NE., Washington, DC 20426, in accordance with Section 385.211 of the Commission's Rules and Regulations. All such protests must be filed on or before May 22, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12652 Filed 5-18-01; 8:45 am]

BILLING CODE 6717-01-M